EXPORT-IMPORT BANK

[Public Notice: 2018-3024]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

EXIM will use this information to fulfill the statutory mandate (Export-Import Bank Act of 1945, as amended) which directs EXIM to report annually to the U.S. Congress on its competitiveness relative to the world's other major export credit agencies. As part of this report, the statutory mandate requires EXIM to conduct an annual survey of exporters and lenders who used Export-Import Bank's support during the prior calendar year. EXIM will use the responses to develop an analysis of the Bank's competitiveness.

The survey can be reviewed at: http://www.exim.gov/sites/default/files/pub/pending/EXIM_Competitiveness_Report_Survey.pdf.

DATES: Comments should be received on or before March 4, 2019 to be considered.

ADDRESSES: Comments may be submitted electronically on www.regulations.gov (EIB 00-02) or by mail to Office of Information and Regulatory Affairs, 725 17th Street NW, Washington, DC 20038 Attn: OMB 3048-14-01.

SUPPLEMENTARY INFORMATION:

Titles and Form Number: EIB 00-02 Annual Competitiveness Report Survey of Exporters and Bankers.

OMB Number: 3048-0004.

Type of Review: Renewal.

Need and Use: This information will be used to fulfill the statutory mandate (Export-Import Bank Act of 1945, as amended, 12 U.S.C. 635) which directs EXIM to report annually to the U.S. Congress any action taken toward providing export credit programs that are competitive with those offered by official foreign export credit agencies. The Act further stipulates that the annual report on competitiveness should include the results of a survey of U.S. exporters and U.S. commercial lending institutions which provide export credit to determine their experience in meeting financial competition from other countries whose exporters compete with U.S. exporters.

Affected Public:

The number of respondents: 150.

Estimated time per respondents: 90 minutes.

The frequency of response: Annually.

Annual hour burden: 225 total hours.

Government Expenses:

Reviewing time per response: 45 minutes.

Responses per year: 150.

Reviewing time per year: 112.5 hours.

Average Wages per hour: $42.50.

Average cost per year: $4,781.25 (time * wages).

Benefits and overhead: 20%.

Total Government Cost: $5,737.5.

Bassam Doughman,
IT Specialist.

[FR Doc. 2019-00404 Filed 1-30-19; 8:45 am]

BILLING CODE 6690-01-P